DEPARTMENT OF ENERGY

Federal Energy Regulatory Commission

Combined Notice of Filings #1

Take notice that the Commission received the following electric corporate filings:

Docket Numbers: EC22-13-000.

Applicants: Howard Wind LLC.

Description: Application for Authorization Under Section 203 of the Federal Power Act of Howard Wind LLC.

Filed Date: 11/3/21.

Accession Number: 20211103-5027.

Comment Date: 5 p.m. ET 11/24/21.

Take notice that the Commission received the following exempt wholesale generator filings:

Docket Numbers: EG22-19-000.

Applicants: Cottontail Solar 2, LLC.

Description: Notice of Self-Certification of Exempt Wholesale Generators Status of Cottontail Solar 2, LLC.

Filed Date: 11/3/21.

Accession Number: 20211103-5061.

Comment Date: 5 p.m. ET 11/24/21.

Docket Numbers: EG22-20-000.

Applicants: Cottontail Solar 8, LLC.

Description: Notice of Self-Certification of Exempt Wholesale Generator Status of Cottontail Solar 8, LLC.

Filed Date: 11/3/21.

Accession Number: 20211103-5062.

Comment Date: 5 p.m. ET 11/24/21.

Take notice that the Commission received the following electric rate filings:

Docket Numbers: ER21-2455-001.

Applicants: California Independent System Operator Corporation.

Description: Tariff Amendment: 2021-11-02 FERC Order No. 2222—Response to Letter to be effective 12/31/9998.

Filed Date: 11/2/21.

Accession Number: 20211102-5180.

Comment Date: 5 p.m. ET 11/23/21.

Docket Numbers: ER22-327-000.

Applicants: Nine Mile Point Nuclear Station, LLC.

Description: § 205(d) Rate Filing: Certificate of Concurrence for Nuclear Operating Services Agreement to be effective 12/31/9998.

Filed Date: 11/2/21.

Accession Number: 20211102-5177.

Comment Date: 5 p.m. ET 11/23/21.

Docket Numbers: ER22-328-000.

Applicants: Portland General Electric Company.

Description: § 205(d) Rate Filing: NorthernGrid Funding Agreement Concurrence to be effective 1/1/2022.

Filed Date: 11/2/21.

Accession Number: 20211102-5185.

Comment Date: 5 p.m. ET 11/23/21.

Docket Numbers: ER22-329-000.

Applicants: R.E. Ginna Nuclear Power Plant, LLC.

Description: § 205(d) Rate Filing: Certificate of Concurrence for Nuclear Operating Services Agreement to be effective 12/31/9998.

Filed Date: 11/2/21.

Accession Number: 20211102-5186.

Comment Date: 5 p.m. ET 11/23/21.

Docket Numbers: ER22-330-000.

Applicants: PJM Interconnection, L.L.C.

Description: Tariff Amendment: Notice of Cancellation of Service Agreement Nos. 4955 (PJM & AEP NITSA) to be effective 1/1/2022.

Filed Date: 11/2/21.

Accession Number: 20211102-5187.

Comment Date: 5 p.m. ET 11/23/21.

Docket Numbers: ER22-331-000.

Applicants: Southwest Power Pool, Inc.

Description: § 205(d) Rate Filing: Revisions to Modify the Review of Base Plan Allocation Methodology to be effective 1/3/2022.

Filed Date: 11/3/21.

Accession Number: 20211103-5068.

Comment Date: 5 p.m. ET 11/24/21.

Docket Numbers: ER22-333-000.

Applicants: Southwest Power Pool, Inc.

Description: § 205(d) Rate Filing: NorthWestern Corporation (South Dakota) Formula Rate Revision to be effective 1/3/2022.

Filed Date: 11/3/21.

Accession Number: 20211103-5111.

Comment Date: 5 p.m. ET 11/24/21.

Docket Numbers: ER22-334-000.

Applicants: Alabama Power Company.

Description: § 205(d) Rate Filing: Solarpack Development (Black Prairie Solar) LGIA Filing to be effective 10/20/2021.

Filed Date: 11/3/21.

Accession Number: 20211103-5113.

Comment Date: 5 p.m. ET 11/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 3, 2021.
Kimberly D. Bose,
Secretary.

[FR Doc. 2021-24477 Filed 11-8-21; 8:45 am]

BILLING CODE 6717-01-P